DEPARTMENT OF DEFENSE

Department of the Navy

Notice of Availability of Record of Decision for the Supplemental Environmental Impact Statement to the Final Environmental Impact Statement for the Renewal of Authorization To Use Pinecastle Range, Ocala National Forest, FL

AGENCY: Department of the Navy, DoD.

ACTION: Notice.

SUMMARY: The Department of the Navy (DoN), after carefully weighing the environmental consequences of the proposed action as presented in the Supplemental Environmental Impact Statement (SEIS), announces its decision to implement the expanded safety zones and associated mitigation measures and continue DoN training at Pinecastle Range, as detailed in the Final Environmental Impact Statement for Renewal of Authorization to Use Pinecastle Range, Ocala National Forest, Florida, dated January 2002, in furtherance of DoN's statutory obligations under Title 10 of the United States Code governing the roles and responsibilities of the DoN. In its decision, the DoN considered applicable laws and executive orders, including an analysis of the effects of its actions in compliance with the Endangered Species Act, the Coastal Zone Management Act, and the National Historic Preservation Act, and the requirements of Executive Order (EO) 12898, Federal Actions to Address Environmental Justice in Minority Populations and Low Income Populations and EO 13045, Protection of Children from Environmental Health Risks and Safety Risks.

Implementation of the proposed action could begin immediately.

SUPPLEMENTARY INFORMATION: The complete text of the DoN's Record of Decision (ROD) is available for public viewing on the project Web site at http://www.pinecastleseis.com along with copies of the SFEIS and supporting documents. Single copies of the ROD will be made available upon request by contacting the SEIS Project Manager, Mr. Tom Currin, 904-542-6301.

Dated: October 19, 2010.
D.J. Werner,
Lieutenant Commander, Judge Advocate General's Corps, U.S. Navy, Federal Register Liaison Officer.

[FR Doc. 2010-26930 Filed 10-22-10; 8:45 am]

BILLING CODE 3810-FF-P